DEPARTMENT OF TRANSPORTATION

Maritime Administration

[Docket No. DOT-MARAD-2017-0016]

Request for Comments on the Renewal of a Previously Approved Information Collection: Cruise Vessel Security and Safety Training Provider Certification

AGENCY: Maritime Administration, Department of Transportation.

ACTION: Notice and request for comments.

SUMMARY: The Maritime Administration (MARAD) invites public comments on our intention to request the Office of Management and Budget (OMB) approval to renew an information collection. The information to be collected will be used to access the CVSSA applicants against the CVSSA Model Course Standard. We are required to publish this notice in the Federal Register by the Paperwork Reduction Act of 1995.

DATES: Comments must be submitted on or before September 5, 2017.

ADDRESSES: You may submit comments identified by Docket No. DOT-MARAD-2017-0116 through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Quinton Ellis, 202-366-5906, Office of Security, Maritime Administration, U.S. Department of Transportation, 1200 New Jersey Avenue SE., Washington, DC 20590.

SUPPLEMENTARY INFORMATION: Title: Cruise Vessel Security and Safety Training Provider Certification.

OMB Control Number: 2133-0547.

Type of Request: Renewal of a Previously Approved Information Collection.

Abstract: Section 3508 of the Cruise Vessel Security and Safety Act of 2010, Public Law 111-207 (July 27, 2010, as codified at 46 U.S.C. 3507-3508 (CVSSA) provides the Maritime Administrator with the discretionary authority to certify cruise vessel training providers that comply with training standards developed by the USCG, FBI and the Maritime Administration (MARAD). The certification process necessarily requires applicants to provide supporting information to evidence their compliance with the CVSSA training standards.

Respondents: Cruise line companies and maritime industry training providers.

Affected Public: Passengers and crew onboard cruise lines.

Estimated Number of Respondents: 20.

Estimated Number of Responses: 20.

Estimated Hours per Response: 40.

Annual Estimated Total Annual Burden Hours: 800.

Frequency of Response: Annually.

Authority: The Paperwork Reduction Act of 1995; 44 U.S.C. Chapter 35, as amended; and 49 CFR 1.93.

* * *

By Order of the Maritime Administrator.
Dated: June 26, 2017.
Gabriel Chavez,
Acting Secretary, Maritime Administration.

[FR Doc. 2017-14095 Filed 7-5-17; 8:45 am]

BILLING CODE 4910-81-P